DEPARTMENT OF THE INTERIOR

Bureau of Land Management

[LLNML00000 L12200000.DF0000 19XL1109AF]

Notice of Public Meeting for the Las Cruces District Resource Advisory Council

AGENCY: Bureau of Land Management, Interior.

ACTION: Notice of Public Meeting.

SUMMARY: In accordance with the Federal Land Policy and Management Act and the Federal Advisory Committee Act, the Bureau of Land Management's (BLM) Las Cruces District Resource Advisory Council (RAC) will meet as indicated below.

DATES: The RAC will hold a public meeting on Wednesday, September 11, 2019 from 9 a.m. to 2:30 p.m. The public comment period is scheduled for 2 p.m.

ADDRESSES: The meeting will be held at the BLM Las Cruces District Office, 1800 Marquess Street, Las Cruces, NM 88001.

FOR FURTHER INFORMATION CONTACT: Deborah Stevens, BLM Las Cruces District, 1800 Marquess Street, Las Cruces, NM 88001, 575-525-4421. Persons who use a telecommunications device for the deaf (TDD) may call the Federal Relay Service (FRS) at 1-800-877-8229, to contact the above individual during normal business hours. The FRS is available 24 hours a day, 7 days a week, to leave a message or question with the above individual. You will receive a reply during normal business hours.

SUPPLEMENTARY INFORMATION: The 10-member Las Cruces District RAC advises the Secretary of the Interior, through the BLM, on a variety of planning and management issues associated with public land management in the Las Cruces District.

Planned agenda items include updates on current and proposed projects in the Las Cruces District, including lands/realty, planning, and energy projects. There will also be updates on the John D. Dingell Jr. Conservation, Management and Recreation Act and its effects on the District as well as a presentation from the U.S. Forest Service on recreation fees.

The meeting is open to the public. Persons wishing to make comments during the public comment period should register in person with the BLM by 1:00 p.m. on the meeting day, at the meeting location. Depending on the number of persons wishing to comment, the length of comments may be limited. The public may send written comments to the RAC at the BLM Las Cruces District Office, 1800 Marquess Street, Las Cruces, NM 88001.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 43 CFR 1784.4-1.

Steven R. Wells,
BLM New Mexico Associate State Director.

[FR Doc. 2019-17338 Filed 8-12-19; 8:45 am]

BILLING CODE 4310-FB-P